DEPARTMENT OF THE INTERIOR

Bureau of Indian Affairs

Privacy Act of 1974; as amended; Notice to Amend an Existing System of Records

AGENCY: Bureau of Indian Affairs, Interior.

ACTION: Notice of an amendment to an existing system of records.

SUMMARY: Pursuant to the provisions of the Privacy Act of 1974, as amended, the Department of the Interior is issuing a public notice of its intent to amend the Bureau of Indian Affairs Privacy Act system of records, “National Irrigation Information Management System (NIIMS), Interior, BIA-34,” to update the system location, categories of individuals covered by the system, categories of records in the system, authority for maintenance of the system, routine uses, storage, safeguards, retention and disposal, system manager and address, and records source categories. The National Irrigation Information Management System is a collection, debt management, and billing system utilized by various Indian irrigation projects operated by the Bureau of Indian Affairs. The system facilitates the revenue and collections business cycle, including billing for the construction, operation and maintenance costs of the project which are reimbursable to the Federal government.

DATE: Comments must be received by March 18, 2013.

ADDRESSES: Any person interested in commenting on this notice may do so by: submitting comments in writing to Willie Chism, Indian Affairs Privacy Act Officer, 12220 Sunrise Valley Drive, Reston, Virginia 20191; hand-delivering comments to Willie Chism, Indian Affairs Privacy Act Officer, 12220 Sunrise Valley Drive, Reston, Virginia 20191; or emailing comments to Willie.Chism@bia.gov.

FOR FURTHER INFORMATION CONTACT: Program Manager, Bureau of Indian Affairs, Office of Trust Services, Division of Water and Power, Denver West Office Park, Building 54, 13922 Denver West Parkway, Suite 300, Lakewood, Colorado 80401, or telephone number (303) 231-5246.

SUPPLEMENTARY INFORMATION:

I. Background

The Bureau of Indian Affairs (BIA) maintains the “National Irrigation Information Management System (NIIMS), Interior, BIA-34” system of records. The primary purpose of this system is to facilitate billing, debt management, and collection of construction, operation and maintenance costs for irrigation projects that are reimbursable to the Federal government. The changes to the system include updating the system location, categories of individuals covered by the system, categories of records in the system, authority for maintenance of the system, routine uses, storage, safeguards, retention and disposal, system manager and address, and records source categories. The system notice was last published in the Federal Register on July 15, 2008 (Volume 73, Number 136).

The amendments to the system notice will be effective as proposed at the end of the comment period (the comment period will end 40 days after the publication of this notice in the Federal Register), unless comments are received which would require a contrary determination. The Department of the Interior (DOI) will publish a revised notice if changes are made based upon a review of the comments received.

II. Privacy Act

The Privacy Act of 1974, as amended (5 U.S.C. 552a), embodies fair information principles in a statutory framework governing the means by which Federal Agencies collect, maintain, use, and disseminate individuals' personal information. The Privacy Act applies to information that is maintained in a “system of records.” A “system of records” is a group of any records under the control of an agency for which information is retrieved by the name of an individual or by some identifying number, symbol, or other identifying particular assigned to the individual. In the Privacy Act, an individual is defined to encompass U.S. citizens or lawful permanent residents. As a matter of policy, DOI extends administrative Privacy Act protections to all individuals. Individuals may request access to their own records that are maintained in a system of records in the possession or under the control of DOI by complying with DOI Privacy Act regulations, 43 CFR part 2.

The Privacy Act requires each agency to publish in the Federal Register a description denoting the type and character of each system of records that the agency maintains and the routine uses of each system to make agency record-keeping practices transparent, notify individuals regarding the uses of their records, and assist individuals to more easily find such records within the agency. Below is the description of the Bureau of Indian Affairs “National Irrigation Information Management System (NIIMS), Interior, BIA-34,” system of records.

In accordance with 5 U.S.C. 552a(r), DOI has provided a report of this system of records to the Office of Management and Budget and to Congress.

III. Public Disclosure

Before including your address, phone number, email address, or other personal identifying information in your comment, you should be aware that your entire comment, including your personal identifying information, may be made publicly available at any time. While you can ask us in your comment to withhold your personal identifying information from public review, we cannot guarantee that we will be able to do so.

Dated: January 16, 2013.
Willie S. Chism,
Indian Affairs Privacy Act Officer, Office of the Assistant Secretary for Indian Affairs.

SYSTEM NAME:

National Irrigation Information Management System (NIIMS), Interior, BIA-34.

SYSTEM LOCATION:

The system is located at the Bureau of Indian Affairs, Office of Information Operations (OIO), 1011 Indian School Road NW., Suite 177, Albuquerque, NM 87104. Records may also be located at the BIA, Office of Trust Services, Division of Water and Power, Denver West Office Park, Building 54, 13922 Denver West Parkway, Suite 300, Lakewood, Colorado 80401; BIA Regions, agencies; and other BIA locations responsible for billing, debt collection, and debt management for customers of Indian irrigation, operation and maintenance, and construction projects operated by the BIA.

CATEGORIES OF INDIVIDUALS COVERED BY THE SYSTEM:

Individuals covered by the system include current and former landowners and lessees, Federal employees, state and local government employees, Tribal government officials, and other individuals responsible for reimbursing the government for the construction of Indian Irrigation Projects or to whom the operation and maintenance costs of the projects have been or will be assessed, and other individuals with whom business is conducted.

CATEGORIES OF RECORDS IN THE SYSTEM:

(1) This system contains records such as, deeds, maps, land surveys, leases, land designation, land re-designation records reflecting current and former owners of land and lessees on which Indian Irrigation projects are constructed, including name, social security number, account/ID, whether the owner is a Federal entity (exempt from certain collection actions), Indian (pertinent to revenue classification), or whether the land is fee or trust, tax identification number, Indian identification number, owner or customer identification number, phone number, name, address, permits and leases; 2) billing information, including name of debtor, address, tax identification number, social security number, ownership interests, rate billed, amount charged, interest and penalty, collection actions, name of the person who remits payment, check number, and amount paid; and 3) information about land on which irrigation projects are constructed, including land construction data, county assigned district identifier, acreage, description of location, name of owner or lessee, water delivery location, time and date of requested water delivery, duration of water delivery, rate of water flow, crop statistics, and the value of the construction debt allocated to the land.

AUTHORITY FOR MAINTENANCE OF THE SYSTEM:

25 U.S.C. Chapter 11, Irrigation of Allotted Lands; 31 U.S.C. 3711, Collection and Compromise; and 25 CFR Part 171, Irrigation Operations and Maintenance.

ROUTINE USES OF RECORDS MAINTAINED IN THE SYSTEM, INCLUDING CATEGORIES OF USERS AND THE PURPOSES OF SUCH USES:

The primary purpose of the system is for billing, to properly account for realized receivables (stemming from costs reimbursable to the Federal government) and to demand payment for them. The system is also routinely used for tracking account balances, reporting, and for debt management including collections and other actions (such as write-off), to facilitate financial accounting, compliance, collections and debt management.

In addition to those disclosures generally permitted under 5 U.S.C. 552a(b) of the Privacy Act, disclosures outside DOI may be made as a routine use pursuant to 5 U.S.C. 552a(b)(3) as follows:

(1) (a) To any of the following entities or individuals, when the circumstances set forth in paragraph (b) are met:

(i) The U.S. Department of Justice (DOJ);

(ii) A court or an adjudicative or other administrative body;

(iii) A party in litigation before a court or an adjudicative or other administrative body; or

(iv) Any DOI employee acting in his or her individual capacity if DOI or DOJ has agreed to represent that employee or pay for private representation of the employee;

(b) When:

(i) One of the following is a party to the proceeding or has an interest in the proceeding:

(A) DOI or any component of DOI;

(B) Any other Federal agency appearing before the Office of Hearings and Appeals;

(C) Any DOI employee acting in his or her official capacity;

(D) Any DOI employee acting in his or her individual capacity if DOI or DOJ has agreed to represent that employee or pay for private representation of the employee;

(E) The United States, when DOJ determines that DOI is likely to be affected by the proceeding; and

(ii) DOI deems the disclosure to be:

(A) Relevant and necessary to the proceeding; and

(B) Compatible with the purpose for which the records were compiled.

(2) To a congressional office in response to a written inquiry that an individual covered by the system, or the heir of such individual if the covered individual is deceased, has made to the office.

(3) To any criminal, civil, or regulatory law enforcement authority (whether Federal, state, territorial, local, tribal or foreign) when a record, either alone or in conjunction with other information, indicates a violation or potential violation of law—criminal, civil, or regulatory in nature, and the disclosure is compatible with the purpose for which the records were compiled.

(4) To an official of another Federal agency to provide information needed in the performance of official duties related to reconciling or reconstructing data files or to enable that agency to respond to an inquiry by the individual to whom the record pertains.

(5) To Federal, state, territorial, local, tribal, or foreign agencies that have requested information relevant or necessary to the hiring, firing or retention of an employee or contractor, or the issuance of a security clearance, license, contract, grant or other benefit, when the disclosure is compatible with the purpose for which the records were compiled.

(6) To representatives of the National Archives and Records Administration to conduct records management inspections under the authority of 44 U.S.C. 2904 and 2906.

(7) To state and local governments and tribal organizations to provide information needed in response to court order and/or discovery purposes related to litigation, when the disclosure is compatible with the purpose for which the records were compiled.

(8) To an expert, consultant, or contractor (including employees of the contractor) of DOI that performs services requiring access to these records on DOI's behalf to carry out the purposes of the system.

(9) To appropriate agencies, entities, and persons when:

(a) It is suspected or confirmed that the security or confidentiality of information in the system of records has been compromised; and

(b) The Department has determined that as a result of the suspected or confirmed compromise there is a risk of harm to economic or property interest, identity theft or fraud, or harm to the security or integrity of this system or other systems or programs (whether maintained by the Department or another agency or entity) that rely upon the compromised information; and

(c) The disclosure is made to such agencies, entities and persons who are reasonably necessary to assist in connection with the Department's efforts to respond to the suspected or confirmed compromise and prevent, minimize, or remedy such harm.

(10) To the Office of Management and Budget during the coordination and clearance process in connection with legislative affairs as mandated by OMB Circular A-19.

(11) To the Department of the Treasury to recover debts owed to the United States.

(12) To the news media when the disclosure is compatible with the purpose for which the records were compiled.

(13) To a consumer reporting agency if the disclosure requirements of the Debt Collection Act, as outlined at 31 U.S.C. § 3711(e)(1), have been met.

(14) To owners of land on which Indian irrigation projects are constructed, operated and maintained (including individual Indian and non-Indians and private sector parties (businesses)) to verify receipt of their payment.

POLICIES AND PRACTICES FOR STORING, RETRIEVING, ACCESSING, RETAINING AND DISPOSING OF RECORDS IN THE SYSTEM: STORAGE:

Records are maintained in paper form in file folders stored in file cabinets, and electronic media such as computers, magnetic disk, diskette, and computer tapes. The electronic records are contained in removable drives, computer servers, email and databases.

RETRIEVABILITY:

Customer records are retrieved by name or customer identification number. Ownership information is retrieved by owner name, unit serial number, or owner identification number. Land information is retrieved by unit serial number.

SAFEGUARDS:

Records are maintained in accordance with 43 CFR 2.51, Privacy Act safeguards for records. Access is provided on a need-to-know basis. During working hours, paper records are maintained in locked file cabinets under the control of authorized personnel.

Electronic records are safeguarded by permission set to “Authenticated Users,” which requires password login. The computer servers in which records are stored are located in Department of the Interior facilities that are secured by alarm systems and off-master key access. Access granted to individuals is password protected. The Department's Privacy Act Warning notice appears on the monitor screens when users access the System. The tapes are kept on the Data Center floor for several weeks and then shipped to Iron Mountain, a secure off site location. Access to the Data Center floor is controlled by key card and only a select number of people have access. The Security Plan addresses the Department's Privacy Act minimum safeguard requirements for Privacy Act systems at 43 CFR 2.51. A Privacy Impact Assessment was conducted to ensure that Privacy Act requirements and safeguard requirements are met. The assessment verified that appropriate controls and safeguards are in place. Personnel authorized to access the system must complete all Security, Privacy, and Records management training and sign the Rules of Behavior.

RETENTION AND DISPOSAL:

Paper records are covered by Indian Affairs Records Schedules records series 4900, and have been scheduled as permanent records under National Archives and Records Administration (NARA) Job No. N1-075-0406 approved on November 21, 2003. Records are maintained for a maximum of 5 years or when no longer needed for current business operations and then retired to the American Indian Records Repository, which is a Federal Records Center. In accordance with the Indian Affairs Records Schedule, the subsequent legal transfer of records to the National Archives of the United States will be as jointly agreed to between the United States Department of the Interior and the NARA.

Electronic records in this system are covered by Indian Affairs Records Schedules records series 2200-NIIMS, and have been scheduled as permanent records under NARA Job N1-075-07-4 approved on September 10, 2007. Records are maintained for a maximum of 2 years or when no longer needed for current business operations and then retired to the American Indian Records Repository. Data backups or copies captured on magnetic disk, diskette and computer tapes that are maintained separately from database files are temporary and are retained in accordance with General Records Schedules 20/8 and 24/4(a).

SYSTEM MANAGER AND ADDRESS:

Program Manager, Bureau of Indian Affairs, Office of Trust Services, Division of Water and Power, Denver West Office Park, Building 54, 13922 Denver West Parkway, Suite 300, Lakewood, Colorado 80401.

NOTIFICATION PROCEDURES:

An individual requesting notification of the existence of records on himself or herself should send a signed, written inquiry to the System Manager identified above. The request envelope and letter should both be clearly marked “PRIVACY ACT INQUIRY.” A request for notification must meet the requirements of 43 CFR 2.60.

RECORDS ACCESS PROCEDURES:

An individual requesting records on himself or herself should send a signed, written inquiry to the System Manager identified above. The request should describe the records sought as specifically as possible. The request envelope and letter should both be clearly marked “PRIVACY ACT REQUEST FOR ACCESS.” A request for access must meet the requirements of 43 CFR 2.63.

CONTESTING RECORDS PROCEDURES:

An individual requesting corrections or the removal of material from his or her records should send a signed, written request to the System Manager identified above. A request for corrections or removal must meet the requirements of 43 CFR 2.71.

RECORD SOURCE CATEGORIES:

Information in the system is obtained directly from current and former landowners and lessees, state and local government employees, and other individuals responsible for reimbursing the government for the construction of Indian Irrigation Projects or to whom the operation and maintenance costs of the projects have been or will be assessed, and other individuals with whom business is conducted. Information may also be manually extracted from other in-house BIA records such as realty and probate records, records obtained from county assessors and title companies, from tribal documents, from information collected from the U.S. Department of the Treasury, and information extracted from native allotment files by authorized BIA employees.

EXEMPTIONS CLAIMED FOR THE SYSTEM:

None.

[FR Doc. 2013-02359 Filed 2-1-13; 8:45 am]

BILLING CODE 4310-4J-P